DEPARTMENT OF COMMERCE

National Oceanic and Atmospheric Administration

RIN 0648-XE659

Pacific Fishery Management Council (Pacific Council); Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet June 21-28, 2016. The Pacific Council meeting will begin on Thursday, June 23, 2016 at 8 a.m., reconvening each day through Tuesday, June 28, 2016. All meetings are open to the public, except a closed session will be held from 8 a.m. to 12 p.m. on Thursday, June 23 and 8 a.m. to 9 a.m. on Tuesday, June 28 to address litigation and personnel matters. The Pacific Council will meet as late as necessary each day to complete its scheduled business.

ADDRESSES: Meetings of the Council and its advisory entities will be held at the Hotel Murano, 1320 Broadway Plaza, Tacoma, WA 98402; telephone: (253) 238-8000.

Council address: Pacific Fishery Management Council, 7700 NE. Ambassador Place, Suite 101, Portland, OR 97220. Instructions for attending the meeting via live stream broadcast are given under SUPPLEMENTARY INFORMATION, below.

FOR FURTHER INFORMATION CONTACT: Mr. Chuck Tracy, Acting Executive Director; telephone: (503) 820-2280 or (866) 806-7204 toll-free; or access the Pacific Council Web site, http://www.pcouncil.org for the current meeting location, proposed agenda, and meeting briefing materials.

SUPPLEMENTARY INFORMATION: The June 23-28, 2016 meeting of the Pacific Council will be streamed live on the Internet. The broadcasts begin initially at 1 p.m. Pacific Time (PT) Thursday, June 23, 2016 and continue at 8 a.m. daily through Tuesday, June 28, 2016. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the June Webinar ID, 157-423-659 and your email address. You can attend the webinar online using a computer, tablet, or smart phone, using the GoToMeeting application. It is recommended that you use a computer headset to listen to the meeting, but you may use your telephone for the audio portion only of the meeting. The audio portion may be attended using a telephone by dialing the toll number 1-562-247-8422 (not a toll-free number), audio access code 409-877-303, and enter the audio pin shown after joining the webinar.

The following items are on the Pacific Council agenda, but not necessarily in this order. Agenda items noted as “Final Action” refer to actions requiring the Council to transmit a proposed fishery management plan, proposed plan amendment, or proposed regulations to the Secretary of Commerce, under sections 304 or 305 of the Magnuson-Stevens Fishery Conservation and Management Act. Additional detail on agenda items, Council action, advisory entity meeting times, and meeting rooms are described in Agenda Item A.4, Proposed Council Meeting Agenda, and will be in the advance June 2016 briefing materials and posted on the Council Web site at www.pcouncil.org.

A. Call to Order

1. Opening Remarks

2. Roll Call

3. Acting Executive Director's Report

4. Approve Agenda

B. Open Comment Period

1. Comments on Non-Agenda Items

C. Habitat

1. Current Habitat Issues

D. Highly Migratory Species Management

1. National Marine Fisheries Service Report

2. International Issues Including Eastern Pacific Ocean Swordfish Status, Report of the North Pacific Albacore Management Strategy Evaluation Workshop, and Recommendations for the 12th Northern Committee Meeting

3. Preliminary Approval of New Exempted Fishing Permits (EFPs)

4. Initial Scoping of Biennial Specifications Including Management Reference Points and Management Measures

5. Deep-Set Buoy Gear and Federal Permit Update

E. Pacific Halibut Management

1. Scoping of Pacific Halibut Catch Sharing Plan Allocation Changes

F. Administrative Matters

1. Legislative Matters

2. Western Region Climate Change Action Plan

3. Fiscal Matters

4. Approval of Council Meeting Record

5. Membership Appointments and Council Operating Procedures

6. Future Council Meeting Agenda and Workload Planning

G. Groundfish Management

1. National Marine Fisheries Service Report

2. Amendment 21 At-Sea Sector Allocation Revisions

3. Final Action on Exempted Fishing Permit Approval for 2017-2018

4. Final Action To Adopt Management Measures for 2017-2018 Fisheries

5. Preliminary Plans for Review of the West Coast Trawl Catch Share Program and Intersector Allocations Including Comments on Draft Guidance for Catch Share Program Revisions

6. Omnibus Groundfish Workload Planning

7. Final Action on Inseason Adjustments

8. Final Action on Stock Assessment Plans and Terms of Reference (TOR) for Groundfish and Coastal Pelagic Species

9. Final Action on Trawl Catch Share Program Gear Use Regulations for Fishing and Multiple Management Areas

H. Salmon Management

1. Sacramento River Winter Chinook Harvest Control Rule Update

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ no later than Thursday, June 9, 2016.

Schedule of Ancillary Meetings

Day 1—Tuesday, June 21, 2016

Highly Migratory Species Advisory Subpanel 8 a.m.

Highly Migratory Species Management Team 8 a.m.

Day 2—Wednesday, June 22, 2016

Groundfish Management Team 8 a.m.

Highly Migratory Species Advisory Subpanel 8 a.m.

Highly Migratory Species Management Team 8 a.m.

Scientific and Statistical Committee 8 a.m.

Habitat Committee 8:30 a.m.

Budget Committee 1 p.m.

Groundfish Advisory Subpanel 1 p.m.

Legislative Committee 2:30 p.m.

Day 3—Thursday, June 23, 2016

California State Delegation 7 a.m.

Oregon State Delegation 7 a.m.

Washington State Delegation 7 a.m.

Highly Migratory Species Advisory Subpanel 8 a.m.

Highly Migratory Species Management Team 8 a.m.

Groundfish Advisory Subpanel 8 a.m.

Groundfish Management Team 8 a.m.

Scientific and Statistical Committee 8 a.m.

Enforcement Consultants 3 p.m.

Day 4—Friday, June 24, 2016

California State Delegation 7 a.m.

Oregon State Delegation 7 a.m.

Washington State Delegation 7 a.m.

Groundfish Advisory Subpanel 8 a.m.

Groundfish Management Team 8 a.m.

Enforcement Consultants Ad hoc

Day 5—Saturday, June 25, 2016

California State Delegation 7 a.m.

Oregon State Delegation 7 a.m.

Washington State Delegation 7 a.m.

Groundfish Advisory Subpanel 8 a.m.

Groundfish Management Team 8 a.m.

Enforcement Consultants Ad hoc

Day 6—Sunday, June 26, 2016

California State Delegation 7 a.m.

Oregon State Delegation 7 a.m.

Washington State Delegation 7 a.m.

Groundfish Advisory Subpanel 8 a.m.

Groundfish Management Team 8 a.m.

Enforcement Consultants Ad hoc

Day 7—Monday, June 27, 2016

California State Delegation 7 a.m.

Oregon State Delegation 7 a.m.

Washington State Delegation 7 a.m.

Groundfish Advisory Subpanel 8 a.m.

Groundfish Management Team 8 a.m.

Enforcement Consultants Ad hoc

Day 8—Tuesday, June 28, 2016

California State Delegation 7 a.m.

Oregon State Delegation 7 a.m.

Washington State Delegation 7 a.m.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Mr. Kris Kleinschmidt at (503) 820-2280 at least 5 days prior to the meeting date.

Dated: May 27, 2016.
Tracey L. Thompson,
Acting Deputy Director, Office of Sustainable Fisheries, National Marine Fisheries Service.

[FR Doc. 2016-13018 Filed 6-1-16; 8:45 am]

BILLING CODE 3510-22-P